DEPARTMENT OF VETERANS AFFAIRS

[OMB Control No. 2900-0266]

Agency Information Collection Activity Under OMB Review: Application for Reimbursement of Headstone or Marker Expense

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden, and it includes the actual data collection instrument.

DATES: Comments and recommendations for the proposed information collection should be sent within 30 days of publication of this notice by clicking on the following link www.reginfo.gov/public/do/PRAMain, select “Currently under Review—Open for Public Comments”, then search the list for the information collection by Title or “OMB Control No. 2900-0266.”

FOR FURTHER INFORMATION CONTACT:

VA PRA information: Maribel Aponte, 202-461-8900, vacopaperworkreduact@va.gov.

SUPPLEMENTARY INFORMATION:

Title: Application for Reimbursement of Headstone or Marker Expense, VA Form 21P-8834.

OMB Control Number: 2900-0266 https://www.reginfo.gov/public/do/PRASearch.

Type of Review: Reinstatement without change of a previously approved collection.

Abstract: VA Form 21P-8834 is used to gather the necessary information to determine eligibility for reimbursement of expenses for a non-government headstone or marker upon the death of a Veteran under the authority of 38 U.S.C. chapter 2306.

An agency may not conduct or sponsor, and a person is not required to respond to a collection of information unless it displays a currently valid OMB control number. The Federal Register Notice with a 60-day comment period soliciting comments on this collection of information was published at 89 FR 51596, June 18, 2024.

Affected Public: Individuals or Households.

Estimated Annual Burden: 167 hours.

Estimated Average Burden per Respondent: 10 minutes.

Frequency of Response: One time.

Estimated Number of Respondents: 1,000.

Authority: 44 U.S.C. 3501 et seq.

Maribel Aponte,
VA PRA Clearance Officer, Office of Enterprise and Integration, Data Governance Analytics, Department of Veterans Affairs.

[FR Doc. 2024-18896 Filed 8-22-24; 8:45 am]

BILLING CODE 8320-01-P